ENVIRONMENTAL PROTECTION AGENCY

40 CFR Part 52

[EPA-R04-OAR-2008-0593-200818b; FRL-8714-6]

Approval and Promulgation of Implementation Plans Alabama: Volatile Organic Compounds and Open Burning

AGENCY: Environmental Protection Agency (EPA).

ACTION: Proposed rule.

SUMMARY: EPA is proposing approval of revisions to the Alabama State Implementation Plan (SIP), submitted by the Alabama Department of Environmental Management on January 8, 2008. The revisions include modifications to Alabama's Volatile Organic Compounds and Control of Open Burning and Incineration regulations, found at Alabama Administrative Code Chapters 335-3-1 and 335-3-3, respectively. This proposed action is being taken pursuant to section 110 of the Clean Air Act.

This SIP revision also contains a letter addressing the requirements of section 110(a)(2)(D)(i), which EPA will consider separately.

DATES: Written comments must be received on or before October 15, 2008.

ADDRESSES: Submit your comments, identified by Docket ID No. “EPA-R04-OAR-2008-0593,” by one of the following methods:

1. www.regulations.gov: Follow the on-line instructions for submitting comments.

2. E-mail: harder.stacy@epa.gov.

3. Fax: 404-562-9019.

4. Mail: “EPA-R04-OAR-2008-0593,” Regulatory Development Section, Air Planning Branch, Air, Pesticides and Toxics Management Division, U.S. Environmental Protection Agency, Region 4, 61 Forsyth Street, SW., Atlanta, Georgia 30303-8960.

5. Hand Delivery or Courier: Ms. Stacy Harder, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Please see the direct final rule which is located in the Rules section of this Federal Register for detailed instructions on how to submit comments.

FOR FURTHER INFORMATION CONTACT: Ms. Stacy Harder, Regulatory Development Section, Air Planning Branch, Air, Pesticides and Toxics Management Division, U.S. Environmental Protection Agency, Region 4, 61 Forsyth Street, SW., Atlanta, Georgia 30303-8960. The telephone number is (404) 562-9042. Ms. Harder can also be reached via electronic mail at harder.stacy@epa.gov.

SUPPLEMENTARY INFORMATION: For additional information see the direct final rule which is published in the Rules Section of this Federal Register.

Dated: September 4, 2008.
Russell L. Wright, Jr.,
Acting Regional Administrator, Region 4.

[FR Doc. E8-21313 Filed 9-12-08; 8:45 am]

BILLING CODE 6560-50-P